DEPARTMENT OF HEALTH AND HUMAN SERVICES

Advancing System Improvements to Support Targets for Healthy People 2010 (ASIST2010)

AGENCY: Office on Women's Health, Office of Public Health and Science, Office of the Secretary, Department of Health and Human Services.

ACTION: Notice.

Announcement Type: Competitive Cooperative Agreement FY 2007 Initial Announcement.

Funding Opportunity Number: Not applicable.

Catalog of Federal Domestic Assistance: The Catalog of Federal Domestic Assistance number is 93.088.

DATES: Proposals are due no later than 5 p.m. Eastern Time on June 18, 2007. The application due date requirement in this announcement supersedes the instructions in Form OPHS-1.

ADDRESSES: To receive consideration, applications must be received by the Office of Grants Management (OGM), Office of Public Health and Science (OPHS), Department of Health and Human Services (DHHS) c/o WilDon Solutions, Office of Grants Management Operations Center, 1515 Wilson Boulevard, Third Floor, Suite 310, Arlington, VA 22209, Attention Office on Women's Health, ASIST2010.

Authority: This program is authorized by 42 U.S.C. 300u-2(a).

Purpose and Eligibility: The purpose of this Request for Applications (RFA) is to use a public health systems approach to improve performance on two or more Healthy People 2010 (HP 2010) objectives that target women and/or men in the Focus Areas specified in this RFA. There must already be an existing source for baseline data for the objectives selected by the applicant and the applicant must already be a participant in an existing public health system/collaborative partnership. Eligible applicants are public and private organizations (public and private academic institutions and hospitals); community-based and faith-based organizations; medical groups/practices, and organizations with women's and men's health experience with funding lasting through September 30, 2010, that will help support the proposed program activities. State, county, and local health departments and tribes and tribal organizations are also eligible to apply.

SUMMARY: The DHHS Office on Women's Health (OWH) was established in 1991 to improve the health and well being of all women and girls in the United States (US). To achieve this long-term goal, the OWH focuses on reducing the health differences (disparities) between women and men, between girls and boys, and among populations of women by supporting programs such as the 48 Multidisciplinary Health Models for Women sites throughout the U.S. Each site has implemented its own paradigm and blend of services to fit the needs of its community. The National Centers of Excellence in Women's Health (CoEs), National Community Centers of Excellence in Women's Health (CCOEs), and the CoE- and CCOE-Ambassadors for Change (AFCs), in particular, have served as leaders and change agents in the area of women's health. Their pioneering efforts have led to changes in the way women's health services are delivered, changes in women's health curricula, acceptance of community health workers and allied health professionals as key members of the care delivery team, development of leadership and empowerment programs for women, and much more. These programs have also demonstrated that, on a local level, the formation of collaborative partnerships across schools, clinics, and disciplines within the academic community, and among community-based organizations with similar missions, leads to broader outreach, the delivery of more counseling and preventive services, improved access to more comprehensive services, and greater patient satisfaction. More information about these programs can be found at http://www.womenshealth.gov/owh/multidisciplinary/.

A recent literature review commissioned by the OWH (Literature Review on Effective Sex- and Gender-Based Systems/Models of Care, 2007, also available at (http://www.womenshealth.gov/owh/multidisciplinary/reports/GenderBasedMedicine/) to help guide the development of this RFA, reports that the comprehensive, integrated, multidisciplinary models of women's health care, first implemented by OWH about a decade ago, have helped to raise awareness of women's health issues and have helped to establish women's health as a discipline. A recommendation made was that it is time for OWH to move to a broader sex- and gender-based approach to health care, building on the success of its comprehensive, integrated, multidisciplinary models programs. The literature review addressed several broad questions and contains interesting and useful information on a variety of topics relevant to this RFA. The information on sex and gender ¹ differences in the current healthcare system, the effectiveness of sex- and gender-based healthcare practices, the effectiveness of a sex- and gender-based focus on clinical care, and the effectiveness of patient advocates/navigators in getting men into the healthcare system and to needed care may be useful background information for applicants.

¹ The definition of sex and gender used in this RFA is based on the Institute of Medicine report titled Exploring the Biological Contributions to Human Health. Does Sex Matter? It defines sex as a classification generally of male and female according to reproductive organs and function that derive from the chromosomal complement. The term gender is defined as a person's self representation as a male or female and how that person is responded to by social institutions on the basis of individual gender presentations.

Healthy People 2010

Healthy People 2010 is a comprehensive, national disease prevention and health promotion agenda designed to improve the health of all people in the U.S. during the first decade of the 21st century. Healthy People 2010 build on initiatives implemented over the past 20 years including:

1. Healthy People: The Surgeon General's Report on Health Promotion and Disease Prevention (1979),

2. Promoting Health/Preventing Disease: Objectives for the Nation (1980), and

3. Healthy People 2000: National Health Promotion and Disease Prevention Objectives (1960).

The two overarching goals of Healthy People 2010 are to increase years and quality of healthy life and to eliminate health disparities. These two goals are supported by specific objectives in 28 Focus Areas. Healthy People 2010 documents are available online at the Healthy People Web site: http://www.healthypeople.gov/. A midcourse review of HP 2010 objectives was completed recently. The current list of Healthy People 2010 objectives assessed at the midcourse review and the results are available at: http://www.healthypeople.gov/Data/midcourse.

The OWH believes in the value of a public health systems approach to improve health outcomes. Therefore, the OWH is planning to provide three years of funding to support public health systems and/or collaborative partnerships with baseline data available that put a gender focus on the following HP 2010 Focus Areas:

• 3—Cancer,

• 5—Diabetes, and/or

• 12—Heart Disease and Stroke, leading causes of death among women and men, and their objectives, crosscut with Focus Areas:

• 1—Access to Quality Health Services,

• 7—Educational and Community-Based Programs,

• 19—Nutrition and Overweight, and

• 20—Physical Activity and Fitness, and their objectives.

For example, an applicant may have as their program goal the reduction of the proportion of adults with high blood pressure (Focus Area 12/Objective 9) and an increase in the proportion of adults with high blood pressure whose blood pressure is under control (Focus Area 12/Objective 10) by increasing the proportion of adults with a usual primary care provider (Focus Area 1/Objective 5). The applicant may choose to focus on a subpopulation of the adult population. The OWH believes that a gender-focused approach will help improve the health of U.S. women and girls as well as men and boys; improve the quality of care provided; reduce disparities among women, among men, and between women and men; and potentially, reduce overall health care costs by reducing duplication of services.

Therefore, the OWH is implementing a new program titled: Advancing System Improvements to Support Targets for Healthy People 2010 (ASIST2010). The goals of ASIST2010 are: (1) To provide additional support to existing public health systems/collaborative partnerships to enable them to add a gender focus to HP 2010 objectives that track the health status of women and/or men, to help improve gender outcomes in the targeted population and/or geographic area, (2) improve surveillance/information systems that allow tracking of program progress on HP 2010 objectives at the grantee level, and (3) develop and implement a plan to sustain the program after OWH funding ends.

Purpose

The purpose of this new initiative is to use a public health systems approach to improve performance on two or more HP 2010 objectives that target women and/or men in the Focus Areas specified above. To enhance an applicant's chance of meeting its goal(s) and objective(s), in addition to the OWH program goals, within the grant's three-year project period, applicants are encouraged to use evidence-based strategies to implement their program. A brief summary of the evidence-based strategy(ies) and references must be included in the program narrative.

There are over 300 measurable HP 2010 objectives in the 28 HP 2010 Focus Areas tracking data specific for women and men. To be responsive to the RFA, applicants must select at least one of the objectives in the OWH specified disease Focus Areas 3-Cancer, 5-Diabetes, and/or 12-Heart Disease and Stroke, and at least one of the objectives in the four cross-cutting areas specified by OWH-1-Access to Quality Health Services and 7-Educational Community-Based Programs, 19-Nutrition and Overweight, and/or Physical Activity and Fitness. Applicants may focus on data collection among groups of women, among groups of men, or between groups of women and men. For example, an applicant may decide to select the following HP 2010 objectives:

• Reduce the proportion of adults with high blood pressure (Objective 12-9 under Focus Area 12),

• increase the proportion of persons with high blood pressure with their blood pressure under control (Objective 12-10 under Focus Area 12), and

• increase the proportion of persons with a usual primary care provider (Objective 1-5 under Focus Area 1), provided that regional, State, tribal, and/or county baseline data are available for these objectives.

Applicants should describe activities in their targeted area that are addressing the objectives selected and how their approach will help move the objectives toward its national, State, or county target. The applicant must also describe the evidence-based strategy(ies) that will be used to achieve the desired outcome—a reduction in the proportion of adults with high blood pressure, an increase in the proportion of people with high blood pressure with their blood pressure under control, and an increase in the proportion of persons with a usual primary care provider in State X. The applicant must identify specific short-term outcomes that will support the achievement of the HP 2010 objectives selected and describe how the outcomes will be achieved and measured. Additionally, all applicants must:

(1) Establish a surveillance/information system to track information on clients served to measure progress toward targets,

(2) Implement a gender-based program focus, and

(3) Develop and implement a plan to sustain the program after OWH funding ends. Applicants proposing to perform only these three activities will not be considered responsive to the RFA.

The applicant must also report which HP 2010 objectives will be targeted in Table 1, baseline data in Table 2, target population data in Table 3, and implementation strategies in Table 4. All tables referenced in this RFA are included in the Application Kit which may be obtained by accessing http://www.grants.gov or the eGrants system at http://www.GrantSolutions.gov. A hard copy of the Application Kit may be obtained by contacting WilDon Solutions at 1-888-203-6161. See Section IV for more instructions on how to obtain an Application Kit. The information provided in the tables must support the narrative.

Public Health Systems Definition

For the purpose of this RFA, a public health system is defined as an established, collaborative partnership between governmental and non-governmental partners such as public and private academic institutions and hospitals, medical groups/practices, community-based and faith-based organizations, tribes and tribal organizations, organizations with expertise relevant to the HP 2010 objectives selected by the applicant, State Women's Health Coordinators (SWHCs), and organizations with women's and men's health and gender-focused programs and experience. A list of SWHCs is available at: http://www.womenshealth.gov/owh/about/swhc.cfm. Through collaboration on identified HP 2010 Focus Areas and objectives, the public health system works to create positive change that leads to improved outcomes for women and girls and/or men and boys. The public health system may be enhanced with additional partners in order to be responsive to the requirements of this RFA. Using the funds provided by OWH to add a gender focus to two or more of the seven Focus Areas listed below, the system will implement evidence-based strategies to achieve the Focus Area objectives identified by the applicant. The public health system must also address gender health issues across the lifespan using a comprehensive, integrated, multidisciplinary approach and be sustainable after OWH funding ends. At least a third of the partners within the public health system should have experience with gender focused programs.

The primary goal of the public health systems-level change envisioned by OWH is improvements in performance on one or more of the HP 2010 objectives selected by the applicant, specifically related to the seven HP 2010 Focus Areas identified by OWH:

• 1—Access to Quality Health Services,

• 3—Cancer,

• 5—Diabetes,

• 7—Educational and Community-Based Programs,

• 12—Heart Disease and Stroke,

• 19—Nutrition and Overweight, and

• 20—Physical Activity and Fitness.

Systems change has been used to extend cultural competence; to deliver more comprehensive, integrated, multidisciplinary care; to accommodate women in various environments; and to improve performance management in health care, to cite a few examples.

SMART Outcomes

Program outcomes must be specific, measurable, achievable, relevant, and timely (SMART). SMART objectives are clear and leave no room for interpretation. At a minimum, outcomes must be inclusive of sex, gender, age and race/ethnicity. If available, information on education level, insurance coverage, income level, disability status, and other socio-demographic variables should also be reported. The outcomes should be consistent with the tribal, county, State, or regional HP 2010 baseline and/or target data available. Although tribal, county, State, or regional targets may not match the National targets, they should be consistent with the HP 2010 plan in the State or area where the grant program will be implemented. If a State plan and/or State HP 2010 Midcourse Review is not available, applicants may use another source to provide the baseline data and to justify the need to focus the objectives selected for its community. Applicants are encouraged to contact their State Health Department to obtain a copy of their State HP 2010 Midcourse Review. Some targets may have been revised as a result of the review.

I. Funding Opportunity Description

Many programs operate with little or no attention to women and gender issues and, thus, may have a limited positive impact on achieving the HP 2010 targets or on catalyzing progress toward the HP 2010 targets. The purpose of the ASIST2010 program is for the OWH to provide three years of funding to existing public health systems/collaborative partnerships to add a gender focus to two or more of the Focus Areas and objectives targeted by this RFA. To enhance an applicant's chance of meeting its objectives within the grant's three-year project period, applicants must use evidence-based strategies to implement their program.

Public and private organizations with current funding through August 31, 2010, that supports proposed ASIST2010 activities; tribes; and, county, State, and local health departments are encouraged to expand existing partnerships, if necessary, to address at least two of the seven HP 2010 Focus Areas targeted by this RFA. As these public health systems/collaborative partnerships work to achieve ASIST2010's purpose, they should strive to create a system change similar to the efforts of the:

(1) Evidence Based Disease and Disability Prevention Programs funded by the Administration on Aging (http://www.aoa.gov/prof/evidence/aoa_ahrq_2006_overview.pdf);

(2) Racial and Ethnic Approaches to Community Health (REACH) 2010 funded by the Centers for Disease Control and Prevention (http://www.cdc.gov/reach2010);

(3) the Health Resources and Services Administration Disparities Collaboratives (http://www.healthdisparities.net/hdc/html/library.aspx?documentID=9-12-2006.2610&folderopen=yes);

(4) Mental Health System Transformation Grants funded by the Substance Abuse and Mental Health Services Administration (http://www.samhsa.gov/pubs/mhc/MHC_Transformation.htm);

(5) Accelerating Change and Transformation in Organizations and Networks funded by the Agency for Healthcare Research and Quality (http://www.ahrq.gov/research/action.htm);

(6) Clinical and Translational Science Awards funded by the National Institutes of Health (http://www.ncrr.nih.gov/clinicaldiscipline.CTSA_FactSheet.pdf); and

At a minimum each ASIST2010 applicant must:

(1) Have in place, at the time the application is submitted, a public health system/collaborative partnership that includes a mix of the following types of organizations—public and private academic institutions and hospitals, medical groups/practices, community-based and faith-based organizations, tribes and tribal organizations, organizations with expertise relevant to the HP 2010 objectives selected, State Women's Health Coordinators (SWHCs), and organizations with demonstrated experience addressing gender issues through appropriate interventions/ programs;

(2) describe how the current public health system/collaborative partnership operates (provides comprehensive, integrated, interdisciplinary care; primary care; education and outreach; community health planning; etc.), whether it has addressed one or more HP 2010 objectives, and whether any health or social issues addressed by the system have a gender focus;

(3) List the funding sources already available to the applicant and the partners that will last at least through August 31, 2010, that could be used to help support the proposed ASIST2010 program activities;

(4) Describe how the public health system/collaborative partnership and target area will be enhanced with the addition of a gender focus;

(5) State clearly the HP 2010 focus areas and objectives that will shape the grant activity and why these objectives are important to the tribe, county, region, or State;

(6) Have demonstrated experience in the objectives selected and in women's and men's health and gender-focused programs;

(7) Describe in detail how objectives will be achieved over the funding period and how progress toward the selected objectives will be tracked and measured annually;

(8) Demonstrate that the objectives of the grant are SMART (assistance writing SMART objectives are available at http://www.cdc.gov/nchstp/tb/Program_Evaluation/Guide/AppB_Writing_Smart_Objectives.htm;

(9) Provide the baseline and target data for the selected objectives— tribal-, county,- State,- or regional-level data related to the objectives are required with a discussion of how the tribal, local, county, or State targets cascade from the HP 2010 targets;

(10) State target(s) and short- and long-term outcome measure(s) for the next 3 years and the applicant's plan/strategy for reaching the targets;

(11) State the total population to be reached by the initiative and describe activities to reach the population;

(12) Establish a Steering Committee that includes, at a minimum, a representative from each partner organization and a lay community person to help oversee and monitor the implementation of the proposed program—Also use Table 6 in the Application Kit to provide a complete list of Steering Committee members;

(13) Provide a comprehensive description of how the program will be evaluated;

(14) Provide a partnership plan that describes in detail the role of each partner, the service(s) to be provided, the individual responsible for coordinating the services at the partner organization, how resources will be distributed among the partners (Table 5), and a signed Memorandum of Agreement (MOA) for each partner (A sample MOA is provided in the Application Kit.);

(15) Demonstrate relevant involvement of partners in the development of the application and plans to carry out the proposed activities—Applicants must also complete Tables 5, 6, and 7 included in the Application Kit and provide all information requested; and

(16) Provide a clear plan to continue the proposed activity(ies) after OWH funding has ended.

II. Award Information

The ASIST2010 program will be supported through the cooperative agreement mechanism. The OWH anticipates making these 3-year awards in FY 2007. The anticipated start date is September 1, 2007, and the anticipated period of performance is September 1, 2007, through August 31, 2010. Approximately $4,000,000 is available to make awards between $150,000-$500,000 total cost (direct and indirect costs) each year for the three-year project period. The number of awards made is contingent upon the quality and type of applications received, the amount of funds requested, and the availability of Federal funds. The total amount requested by an applicant must be based on the scope of the proposed program activity(ies) and justified clearly. At a minimum, all applicants will address at least two HP 2010 Focus Areas and at least one objective within each Focus Area and target a specific geographic area (region, State, or county) and/or a specific population. Normally, applicants proposing to perform the minimum activities allowed by the RFA, as described above, would request funding at the lower end of the $150,000-$500,000 funding range. However, for this announcement, if an applicant proposes to serve a county with a population of over one million people or a county with a metropolitan area with over one million people, serve a rural area where outreach may be more costly, or have a unique situation, they may need to request funding at the upper end of the funding range. Therefore, it is crucial that applicants provide detailed justification for every aspect of their budget requests.

The OWH will provide the technical assistance and oversight necessary for the implementation, conduct, and assessment of ASIST2010 program activities.

The applicant shall:

1. Implement the program described in the application according to the timeline that should be included in the Management Plan.

2. Participate in and pay for attendance at two annual meetings of ASIST2010 grantees in the Washington, DC Metropolitan Area. The cost of these meetings (including travel, lodging and meals) should be included in the applicant's budget.

3. Participate in a full-day orientation meeting in the Washington, DC Metropolitan Area within two months after the award of the grant. In Year 1 of the grant, this orientation meeting will count as one of the two meetings budgeted in the grant application. It is up to the applicant to decide and budget for the number of people that will participate in the orientation meeting.

4. Participate in additional ASIST2010 working groups, special interest meetings, or other opportunities. The OWH will pay for the travel and lodging for these meetings.

5. Adhere to all program requirements specified in the RFA and the Notice of Grant Award.

6. Submit required quarterly reports and an annual progress and Financial Status reports by the due dates stated in this announcement and the Notice of Grant Award, following the format for the quarterly report that will be distributed at the orientation meeting.

7. Ensure that appropriate staff is available to meet with the site visit team and provide a comprehensive report on the status of all grant activities.

8. Identify clearly the HP 2010 objectives to be addressed by the proposed program.

9. Describe in detail the evidence-based program(s) to be implemented to achieve the program objectives.

The Federal Government will:

1. Conduct a pre-award site visit to applicants that score in the funding range.

2. Organize and participate in all grantee meetings held in the Washington Metropolitan Area.

3. Review and decide upon requested project modifications.

4. Site visit ASIST2010 grantees at least once a year to provide advice and guidance on implementing the program and to help monitor progress toward goals.

5. Review all reports submitted by the grantees.

6. Monitor all grant activity and provide advice and guidance on the implementation of the grant program.

III. Eligibility Information

1. Eligible Applicants. Eligible applicants are public and private organizations (public and private academic institutions and hospitals); community-based and faith-based organizations; and medical groups/practices with existing funding lasting through September 30, 2010, that will help support the proposed ASIST2010 activities, and State, county, or local health departments and tribes and tribal organizations with expertise and experience in the proposed objectives.

Applicant organizations must already participate in an existing public health system/collaborative partnership. List the funding available for the applicant and the partners using Tables 7 and 8 in the Application Kit. Although one organization should be the lead applicant, the applicant must demonstrate involvement of the partners in the development of the application and in the planning and execution of the grant activities. At least one third of the partners should have demonstrated experience addressing gender differences through appropriate interventions, programs, or research related to the selected objectives. Single-site efforts are not eligible for this award.

2. Cost Sharing or Matching Funds. Cost sharing or matching funds are not required for this program.

IV. Application and Submission Information

1. Address to Request an Application Kit: Application Kits may be obtained by accessing Grants.gov at http://www.grants.gov or the GrantSolutions system at http://www.GrantSolutions.gov. To obtain a hard copy of the Application Kit, contact WilDon Solutions at 1-888-203-6161. Applicants may fax a written request to WilDon Solutions at (240) 453-8823 or email the request to OPHSgrantinfo@teamwildon.com. Applications must be prepared using Form OPHS-1, which can be obtained at the websites noted above.

2. Content and Form of Application and Submission: At a minimum, each application for a cooperative agreement grant funded under this announcement must include the information listed below to be considered for funding:

(a) A collaborative partnership that includes a mix of the following types of organizations—public and private academic institutions and hospitals, medical groups/practices, community-based and faith-based organizations, tribes and tribal organizations, and organizations with expertise relevant to the HP 2010 objectives selected, SWHCs, and organizations with women's health and gender-focused programs and experience;

(b) A description of the present system, its accomplishments to date as related to HP 2010 objectives or gender-based activities, and a description of how a gender focus and increased funding will enhance the effectiveness and efficiency of the public health system/collaborative partnership;

(c) The type, source, purpose, and duration of funding the applicant and the partners have to help support the activities proposed for this initiative as well as the contact information for the Principal Investigator/Program Director;

(d) A clear statement of HP 2010 Focus Areas and objectives that will be addressed by the grant and how they will benefit the community, county, region, State or tribe;

(e) A description demonstrating experience with the objectives selected and in women and men's health/gender health and gender-focused programs;

(f) A comprehensive implementation plan that describes how objectives and outcomes will be achieved over the funding period and how progress towards objectives' targets and program outcomes will be tracked and measured annually;

(g) Baseline and target data for the objectives and the population that will be the focus of the selected objectives, the targets for the next three years, and the plan/strategy of reaching the targets;

(h) A description of the total population to be reached by the proposed grant program and a description of activities to reach the population;

(i) A clear statement of the applicant's targets and short- and long-term outcome measures for the three years and the applicant's plan/strategy for reaching the targets;

(j) A Steering Committee to oversee and monitor the implementation of the work plan that includes, at a minimum, a representative from each partner organization and a lay community person;

(k) A comprehensive description of the program evaluation plan;

(l) A partnership plan that describes in detail the role of each partner, the service(s) to be provided, the individual responsible for coordinating the services at the partner organization, how resources will be distributed among the partners, and a signed Memorandum of Agreement (MOA) for each partner;

(m) A discussion demonstrating relevant involvement of the partners in the development of the application and plans to carry out the proposed program activities; and

(n) A clear plan to continue the proposed activity(ies) after OWH funding has ended.

The Project Narrative must not exceed a total of 30 double-spaced pages, excluding the appendices. All pages must be numbered clearly and sequentially. The application must be typed double-spaced on one side of plain 8″ x 11″ white paper, using at least a 12 point font, and 1″ margins all around. The application should be organized in accordance with the format presented below. The information to be included in the “Project Narrative” section is also presented below.

Applications submitted via hard copy must be stapled and/or otherwise securely bound. Applicants are required to submit an original ink-signed and dated application and two photocopies. Applications not adhering to this guidance may not be reviewed. All applicants must pay particular attention to structuring the narrative to respond clearly and fully to each Review Factor and associated review criteria.

Background

A. Describe the current public health system/collaborative partnership and why the public health system/collaborative partnership was formed.

B. Describe the population and geographic area served by the current public health system/collaborative partnership and the services provided.

C. Provide an overview of the applicant's organization and experience related to the selected HP 2010 Focus Areas and objectives and with other HP 2010-related programs and/or activities.

D. Describe experience/involvement with women's and/or men's health and gender-focused programs.

E. Describe experience implementing and managing comprehensive, integrated, multidisciplinary programs.

F. Describe the public health system/collaborative partnership's experience with the HP 2010 initiative.

G. State goal and purpose of the proposed program. Include the number and demographics of the population to be served by the program. Use Table 6 to provide the demographic information on the targeted population.

H. Describe changes to the public health system/collaborative partnership to fulfill the proposed program's purpose.

I. Describe how the public health system/collaborative partnership will be enhanced with a gender focus.

Implementation Plan

A. State the disease Focus Area and objective(s) and the cross-cutting Focus Area and objective(s) to be addressed by the system using Table 1 in the Application Kit.

B. Provide baseline data for HP 2010 objectives and targets for the program in Table 2.

C. Describe the evidence-based strategy(ies) to be implemented to reach the objectives within the 3-year funding period and plans for implementing it. Also use Table 4 to present this information.

D. Describe the program outcomes and tasks to be accomplished during the 3-year funding period. List the tasks, the individual or organization with the lead responsibility for completion of the task, and the period of time required to complete the tasks (Table 5).

E. Describe programs and activities already in place to help support the selected Healthy People 2010 objectives. Include partners' programs and activities (Table 7).

F. Describe the role each partner will play in the implementation of the proposed program tasks to ensure that the tasks are accomplished by the dates reported in the timeline.

G. Describe the resources already available and/or the resources that will be made available to support each task. Use Tables 7 and 8 to report this information in detail.

H. Describe the composition of the Steering Committee, their role, and how their advice and guidance will be conveyed, implemented, and monitored. Use Table 6 to provide more detailed information about each member of the Steering Committee.

Partnership Plan

A. Provide a complete list of partners using Table 5, their primary area(s) of expertise, and their role/responsibility to ensure that the proposed program's goals and the HP 2010 selected objectives' targets are met (Table 5).

B. Describe partners' role in the development of the application.

C. Include in the appendix of the application signed MOAs that specify the services the partners will provide and the contact information for the person serving as the main liaison for the partnering organizations. A sample MOA is provided in the Application Kit. Letters of support are not required for this proposal.

D. Describe how resources will be distributed among the partners.

E. Describe how partner activities will be factored into measurements of progress toward achieving selected HP 2010 targets.

F. Describe the role of the State Women's Health Coordinator.

Management Plan

A. List key program staff and provide resumes for all budgeted and in-kind staff.

B. Describe staff experience and how it relates to their project responsibilities.

C. Describe the relationship of the Steering Committee, partners, and the applicant organization.

D. Provide an organizational chart depicting the grant administration structure.

E. Provide a task chart/timeline with projected start and end dates for all program activities. This timeline should depict all program activities including reports, meetings, etc. and is in addition to the timeline for program tasks presented in Table 4.

F. Discuss how the program's progress will be monitored and strategies for keeping tasks on track.

G. Describe how partner activities will be monitored and assessed.

Evaluation Plan

A. Describe the program evaluation methodology.

B. Describe the surveillance system implemented for the program.

C. List the program objectives using SMART style and how these objectives will be met.

D. Describe the data sources and how the data will be obtained.

E. Describe how progress towards objectives and targets will be tracked and measured.

F. Describe short- and long-term program outcomes and how they will be tracked and measured.

G. Include a timeline for the evaluation.

Sustainability Plan

A. Provide a clear, detailed plan to sustain the public health system/collaborative partnership and program activities after OWH funding ends.

B. Describe the goal and purpose of sustaining the program beyond 2010.

C. Describe the benefits of sustaining the program (e.g., maintenance of the health benefits achieved through the initial program).

D. Describe how the program will be sustained/institutionalized.

E. Describe experience sustaining past programs.

F. Describe any factors in the program design and implementation plan or with the applicant and partners' organizational settings that may facilitate sustainability.

Appendices

A. Required Forms (Assurance of Compliance Form, list of funding sources, etc.)

B. Key Staff Resumes

C. Signed Partnership MOAs

D. Program Timeline

E. Organization Chart

F. State Women's Health Coordinator Letter

G. Tables 1-9 in the Application Kit, if not included in the program narrative

H. Other Attachments

3. Submission Dates and Times. To be considered for review, applications must be received by the Office of Public Health and Science, Office of Grants Management, c/o WilDon Solutions, by 5 p.m. Eastern Time on the due date published in Dates section of the Federal Register. Applications will be considered as meeting the deadline if they are received on or before the deadline date. The application due date requirement in this announcement supersedes the instructions in Form OPHS-1.

Submission Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

While applications are accepted in hard copy, the use of the electronic application submission capabilities provided by the GrantSolutions system or the Grants.gov Web site Portal is encouraged. Applications may only be submitted electronically via the electronic submission mechanisms specified below. Any applications submitted via any other means of electronic communication, including facsimile or electronic mail, will not be accepted for review.

Electronic grant application submissions must be submitted no later than 5 p.m. Eastern Time on the deadline date specified in the DATES section of the announcement using one of the electronic submission mechanisms specified below. All required hardcopy original signatures and mail-in items must be received by the OPHS Office of Grants Management, c/o WilDon Solutions no later than 5 p.m. Eastern Time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions Via the Grants.gov Web Site Portal

The Grants.gov Web site Portal provides organizations with the ability to submit applications for OPHS grant opportunities. Organizations must successfully complete the necessary registration processes in order to submit an application. Information about this system is available on the Grants.gov Web site: http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, c/o WilDon Solutions, and if required, must contain the original signature of an individual authorized to act for the applicant agency and the obligations imposed by the terms and conditions of the grant award. When submitting the required forms, do not send the entire application. Complete hard copy applications submitted after the electronic submission will not be considered for review.

Electronic applications submitted via the Grants.gov Website Portal must contain all completed online forms required by the application kit, the Program Narrative, Budget Narrative and any appendices or exhibits. All required mail-in items must be received by the due date requirements specified above. Mail-in items may only include publications, resumes, or organizational documentation. When submitting the required forms, do not send the entire application. Complete hard copy applications submitted after the electronic submission will not be considered for review.

Upon completion of a successful electronic application submission via the Grants.gov Website Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the GrantSolutions system, and OPHS has no responsibility for any application that is not validated and transferred to OPHS from the Grants.gov Website Portal. Grants.gov will notify the applicant regarding the application validation status. Once the application is successfully validated by the Grants.gov Web site Portal, applicants should immediately mail all required hard copy materials to the OPHS Office of Grants Management,c/o WilDon Solutions, to be received by the deadlines specified above. It is critical that the applicant clearly identify the Organization name and Grants.gov Application Receipt Number on all hard copy materials.

Once the application is validated by Grants.gov, it will be electronically transferred to the GrantSolutions system for processing. Upon receipt of both the electronic application from the Grants.gov Web site Portal, and the required hardcopy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions Via the GrantSolutions System

The electronic grants management system, http://www.GrantSolutions.gov, provides for applications to be submitted electronically. When submitting applications via the GrantSolutions system, applicants are required to submit a hard copy of the application face page (Standard Form 424 included in Form OPHS-1) with the original signature of an individual authorized to act for the applicant agency and assume the obligations imposed by the terms and conditions of the grant award. If required, applicants will also need to submit a hard copy of the Standard Form LLL and/or certain Program related forms (e.g., Program Certifications) with the original signature of an individual authorized to act for the applicant agency. When submitting the required forms, do not send the entire application. Complete hard copy applications submitted after the electronic submission will not be considered for review.

Electronic applications submitted via the GrantSolutions system must contain all completed online forms required by the application kit, the Program Narrative, Budget Narrative and any appendices or exhibits. The applicant may identify specific mail-in items to be sent to the Office of Grants Management separate from the electronic submission; however these mail-in items must be entered on the GrantSolutions Application Checklist at the time of electronic submission, and must be received by the due date requirements specified above. Mail-in items may only include publications, resumes, or organizational documentation. When submitting the required forms, do not send the entire application. Complete hard copy applications submitted after the electronic submission will not be considered for review.

Upon completion of a successful electronic application submission, the GrantSolutions system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the GrantSolutions system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management, c/o WilDon Solutions, on or before 5 p.m. Eastern Time on the deadline date specified in the DATES section of the announcement. The application deadline date requirement specified in this announcement supersedes the instructions in the Form OPHS-1. Applications that do not meet the deadline will be returned to the applicant unread.

4. Intergovernmental Review: This program is subject to the Public Health Systems Reporting Requirements. Under these requirements, a community-based non-governmental applicant must prepare and submit a Public Health System Impact Statement (PHSIS). Applicants shall submit a copy of the application face page (SF-424) and a one page summary of the project, called the Public Health System Impact Statement. The PHSIS is intended to provide information to State and local health officials to keep them apprised of proposed health services grant applications submitted by community-based, non-governmental organizations within their jurisdictions.

Community-based, non-governmental applicants are required to submit, no later than the Federal due date for receipt of the application, the following information to the head of the appropriate State and local health agencies in the area(s) to be impacted: (a) A copy of the face page of the application (SF 424), (b) a summary of the project (PHSIS), not to exceed one page, which provides: (1) A description of the population to be served, (2) a summary of the services to be provided, and (3) a description of the coordination planned with the appropriate state or local health agencies. Copies of the letters forwarding the PHSIS to these authorities must be contained in the application materials submitted to the OWH.

This program is also subject to the requirements of Executive Order 12372 that allows States the option of setting up a system for reviewing applications from within their States for assistance under certain Federal programs. The application kit to be made available under this notice will contain a listing of States that have chosen to set up a review system and will include a State Single Point of Contact (SPOC) in the State for review. Applicants (other than federally recognized Indian tribes) should contact their SPOC as early as possible to alert them to the prospective applications and receive any necessary instructions on the State process. For proposed projects serving more than one State, the applicant is advised to contact the SPOC in each affected State. A complete list of SPOC may be found at the following Web site: http://www.whitehouse.gov/omb/grants/spoc.html. The due date for State process recommendations is 60 days after the application deadline. The OWH does not guarantee that it will accommodate or explain its responses to State process recommendations received after that date. (See “Intergovernmental Review of Federal Programs,” Executive Order 12372, and 45 CFR part 100 for a description of the review process and requirements.)

5. Funding Restrictions: Funds may not be used for construction, building alterations, equipment, printing, food, and medical treatment. All budget requests must be justified fully in terms of the proposed goals and objectives of the program and include an itemized computational explanation/breakout of how costs were determined.

6. Other Submission Requirements: As of October 1, 2003, all applicants are required to obtain a Data Universal Numbering System (DUNS) number as preparation for doing business electronically with the Federal Government. The DUNS number must be obtained prior to applying for OWH funds. The DUNS number is a nine-character identification code provided by the commercial company Dun & Bradstreet, and serves as a unique identifier of business entities. There is no charge for requesting a DUNS number, and you may register and obtain a DUNS number by either of the following methods:

Telephone: 1-866-705-5711.

Web site: https://eupdate.dnb.com/requestOptions.html.

Please note that registration via the Web site may take up to 30 business days to complete.

V. Application Review Information

Applications will be screened upon receipt. Those that are judged to be incomplete or arrive after the deadline will not be reviewed. Applications that are judged to be in compliance will be reviewed for technical merit by a technical review panel composed of experts with experience with sex and gender programs, program management, service delivery, outreach, health education, Healthy People 2000 and/or Healthy People 2010, leadership development, and program assessment in accordance with DHHS policies. Consideration for award will be given to applicants that best demonstrate progress and/or plausible strategies for eliminating health disparities through sex and gender targeted HP 2010 objectives. Applicants are also advised to pay close attention to the specific program guidelines and general instructions in the Application Kit.

1. Criteria: The technical review of applications will consider the following factors:

Factor 1: Background and Implementation Plan (30 Points)

To receive the maximum points for this Factor, the applicant must address all the items listed in the Background and Implementation Plan in Section IV. Application and Submission Information. At a minimum, the HP 2010 objectives selected must be stated clearly with baseline and target data for the objectives and for the population to be served. In addition, the overall program objectives must also be stated in SMART format. Using the example stated earlier, a SMART objective for Focus Area 12—Heart Disease and Stroke may be: In State X, the applicant will increase the number of Hispanic men age 35-50 who have their high blood pressure under control from x% to y% in three years by increasing the percent of Hispanic men with a usual primary care provider. The rationale for the selection of the objectives and the anticipated impact on the community, if the target is reached, must also be described. The rationale may be that several studies (provide references) show that uninsured people are less likely to have a regular source of care, less likely to receive preventive and primary care, less likely to receive required preventive services, and more likely to delay needed medical care than insured people. One activity of the evidence-based strategy (provide references) may be to use an Eligibility Specialist to help enroll these men in all social services programs for which they are eligible to assist them in receiving insurance coverage, or other financial support, to pay for needed care, thus increasing their chance of receiving the services needed to help control their blood pressure.

All applicants must achieve, at a minimum, the following three outcomes: establish a gender focus within the public health system/collaborative partnership, implement a surveillance/tracking system, and develop and implement a sustainability plan. Plans for achieving each of the overall program outcomes that should be included in the Implementation Plan, not just those listed above, must be described. Outcome measures, beyond process measures, must also be described along with plans to track and report HP 2010 and overall program outcomes. Applicants should also address their resources and ability to meet the tribal, county, State, or national HP 2010 targets. The baseline data for the individual HP 2010 objectives have been published by the National Center for Health Statistics and are available on the DATA2010 Web site located at http://wonder.cdc.gov/data2010/. States may have published their own HP 2010 data. The HP 2010 Midcourse Review assesses progress toward the Healthy People 2010 objectives at the mid-point of the decade and is available at http://www.healthypeople.gov/Data/midcourse. These data, along with the tribal, State, local, or county data should be used to develop a plan to measure the impact of additional resources on the applicant's ability to meet the HP 2010 targets. Applicants must provide a projection of their success (percent of targeted change achieved) without the additional support and a projection of their success with the additional support. A plan to objectively track and quantify progress toward target(s) annually must be included in the evaluation section of the grant application Factor 4.

Factor 2: Strength of the Public Health System/Collaborative Partnerships (Partnership Plan) (20 Points)

To receive the maximum points for this Factor, the applicant must address all the items listed in the Partnership Plan in Section IV. Application and Submission Information. At a minimum, the applicants must include a statement of the program goal(s) and objectives. The public health system/collaborative partnership, as a collective, must have demonstrated knowledge, experience, and resources to enhance their chance of reaching the national, State, county, or tribal HP 2010 targets for the objectives selected. The applicant must include a comprehensive description of the current public health system/collaborative partnership and describe how the public health system/collaborative partnership is presently addressing HP 2010 objectives and gender issues. A partnership plan that lists each partner, describes in detail the role of each partner, their strengths/expertise as it relates to the selected HP 2010 objectives, the experience of the person assigned as the liaison to the project, and the percent effort for the liaison to work on project activities must also be included in this section. The length of the formal relationship between the partners and applicant should be described. The partnership tables (Tables 5 and 8) must be used to present this information. The length of the collaboration may date back to a non-HP 2010 activity. Applicants are encouraged to include the State Women's Health Coordinators (SWHCs) among their partners. A letter from the SWHC stating her willingness to participate in the system/collaborative partnership and her role on the project should be included in the Appendix.

Factor 3: Management Plan (20 Points)

To receive the maximum points for this Factor, the applicant must address all the items listed in the Management Plan in Section IV. Application and Submission Information. At a minimum, applicant organizations must describe their capability to manage the project as determined by the qualifications of the proposed staff; proposed staff level of effort; management experience of the staff; and the experience, resources, and role of each partner organization as it relates to program needs and activities. Resumes of key staff and partners should be included in the Appendix. Include the name, degrees earned, position, and FTE equivalent for each person/partner working on the program and listed in the Key Staff table. This table should provide enough information to identify the number of key personnel (salaried and in-kind) involved in the program (Table 9). Partners' liaison information should also be included in this chart. If the partners' liaison is different from the person serving on the Steering Committee, that individual's information should be included in this section. The Management Plan should also describe succession planning for key personnel and cross training of responsibilities. It should also include a description detailing how the resources of the partners and the applicant organization will be integrated to develop a comprehensive, integrated, multidisciplinary strategy to address the selected program and HP 2010 objectives.

Factor 4: Evaluation Plan (20 Points)

To receive the maximum points for this Factor, the applicant must address all the items listed in the Evaluation Plan in Section IV. Application and Submission Information. At a minimum, the applicant must provide a comprehensive description of how the program will be evaluated, especially as it relates to outcomes. This description should include a timeline, a discussion of data sources and how the data will be obtained and used. The OWH is particularly interested in tracking progress towards target(s). In addition, describe the impact of the additional resources on the public health system/collaborative partnership's ability to meet tribal, local, State, or national HP 2010 target(s) and how progress towards target(s) will be measured.

Factor 5: Sustainability Plan (10 Points)

To receive the maximum points for this Factor, the applicant must address all the items listed in the Sustainability Plan in Section IV. Application and Submission Information. The goals of sustaining the program may be: (1) To maintain the benefits achieved through the program, (2) to institutionalize the program within the parent-grant organization and among the partners, (3) to keep component(s) of the program operational after the OWH funding ends, or (4) others. At a minimum, the sustainability plan should describe how the program will be maintained after OWH funding ends and the benefit of the sustained program to the target population. The plan should also address anticipated long-range benefits to the community, tribe, region, State, and/or county. Thoughtful succession planning and cross training of responsibilities could contribute to the sustainability of the program. Describe succession planning and plans to cross train within individual organizations and across the public health system/collaborative partnership.

2. Review and Selection Process: Accepted applications will be reviewed for technical merit in accordance with DHHS policies. Applications will be evaluated by an objective/technical review panel composed of experts in the fields of public health systems, program management, academic/community service delivery, outreach, health education, women's health, men's health, Healthy People 2000/2010, and evaluation. Consideration for award will be given to applicants that meet the goals and review criteria of the ASIST2010 programs.

Funding decisions will be made by the OWH, and will take into consideration the recommendations and ratings of the review panel, program needs, stated preferences, the recommendations made based on the pre-award site visit, and the availability of Federal funds.

VI. Award Administration Information

1. Award Notices: Within a month of the review of all applications, applicants not scoring in the funding range will receive a letter stating that they have not been recommended for funding. Applicants scoring in the funding range will be contacted to schedule a pre-award site visit. Applicants selected for funding support will receive a Notice of Grant Award in September signed by the Grants Management Officer. This is the authorizing document to begin performing grant activities and it will be sent electronically and followed up with a mailed copy. Pre-award costs are not supported by the OWH.

2. Administrative and National Policy Requirements: (1) In accepting this award, the grantee stipulates that the award and any activities thereunder are subject to all provisions of the 45 CFR parts 74 and 92, currently in effect or implemented during the period of this grant. (2) Requests that require prior approval from the awarding office (See Chapter 8, PHS Grants Policy Statement) must be submitted in writing to the OPHS Grants Management Office. Only responses signed by the Grants Management Officer are to be considered valid. Grantees who take action on the basis of responses from other officials do so at their own risk. Such responses will not be considered binding by or upon the OWH. (3) Responses to reporting requirements, conditions, and requests for post-award amendments must be mailed to the Office of Grants Management at the address indicated below in “Agency Contacts.” All correspondence requires the signature of an authorized business official and/or the project director. Failure to follow this guidance will result in a delay in responding to your correspondence. (4) The DHHS Appropriations Act requires that, when issuing statements, press releases, requests for proposals, bid solicitations, and other documents describing projects or programs funded in whole or in part with Federal money, the issuance shall clearly state the percentage and dollar amount of the total costs of the program or project that will be financed with Federal money and the percentage and dollar amount of the total costs of the project or program that will be financed by non-governmental sources.

3. Reporting. A successful applicant will submit a quarterly progress report on December 10, March 10, June 10, and August 10, and a Financial Status Report 90 days after the close of each 12-month budget period. The June 10 report will serve as the non-competing renewal application. An original and two copies of the non-competing renewal application must be submitted no later than June 10 and report on program activities from September through the end of May. The final progress report is due 30 days after the close of the project period (August 31, 2010). If a submission date falls on a Saturday or Sunday, then the report will be due the following Monday.

The non-competing renewal application must include a discussion of progress made on the grant during the year, plans for the coming year, a budget request for the next grant year, with complete justification, and appropriate signatures, and be submitted using Form OPHS-1. A Financial Status Report (FSR) SF-269 is due 90 days after the close of each 12-month budget period. A copy of the form will be sent with the Notice of Grant Award.

VII. Agency Contact(s)

For Application Kits, submission of applications, and information on budget and business aspects of the application, please contact: WilDon Solutions, Office of Grants Management Operations Center, 1515 Wilson Boulevard, Third Floor Suite 310, Arlington, VA 22209 at 1-888-203-6161, e-mail OPHSgrantinfo@teamwildon.com, or fax 703-351-1138. Also contact Wildon Solutions with questions regarding programmatic information and/or requests for technical assistance in the preparation of the grant application.

VIII. Other Information

Not applicable.

Dated: April 13, 2007.
Wanda K. Jones,
Deputy Assistant Secretary for Health (Women's Health), Office of Public Health and Science.

[FR Doc. E7-7371 Filed 4-17-07; 8:45 am]

BILLING CODE 4150-33-P